GENERAL SERVICES ADMINISTRATION

[OMB Control No. 3090-0321; Docket No. 2025-0001; Sequence No. 14]

Information Collection; Improving Customer Experience—Implementation of Section 280 of OMB Circular A-11

AGENCY: General Services Administration (GSA).

ACTION: Notice; request for comment.

SUMMARY: The GSA, as part of its continuing effort to reduce paperwork and respondent burden, is announcing an opportunity for public comment on a proposed extension of a collection of information by the Agency. Under the Paperwork Reduction Act of 1995 (PRA), Federal agencies are required to publish notice in the Federal Register concerning each proposed collection of information, and to allow 60 days for public comment in response to the notice. This notice solicits comments on an extension of an existing collection proposed by the Agency.

DATES: Submit comments on or before August 25, 2025.

ADDRESSES: Submit comments identified by Information Collection 3090-0321, Improving Customer Experience (OMB Circular A-11, Section 280 Implementation), by any of the following methods:

• Federal eRulemaking portal: https://www.regulations.gov. Follow the instructions for submitting comments. Comments submitted electronically, including attachments to https://www.regulations.gov, will be posted to the docket unchanged.

Instructions: Please submit comments only and cite Information Collection 3090-0321, Improving Customer Experience (OMB Circular A-11, Section 280 Implementation), in all correspondence related to this collection. To confirm receipt of your comment(s), please check regulations.gov, approximately 2-3 business days after submission to verify posting.

FOR FURTHER INFORMATION CONTACT: Requests for additional information should be directed to Nicole Bynum, Regulatory Program Specialist, at 202-501-4755, or email to GSARegSec@gsa.gov.

SUPPLEMENTARY INFORMATION:

A. Purpose

Under the PRA, (44 U.S.C. 3501-3520) Federal agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, the agency is publishing notice of the proposed collection of information set forth in this document.

Under the Government Service Delivery Improvement Act and the 21st Century Integrated Digital Experience Act, along with OMB guidance, agencies are obligated to continually improve the services they provide the public and to collect qualitative and quantitative data from the public to do so.

The purpose of this request is to facilitate the agency's ability to collect feedback from the public to continue to improve its services, thereby facilitating its compliance with statutory requirements and general principles of good governance.

The agency will only submit collections if they meet the following criteria.

• The collections are voluntary;

• The collections are low-burden for respondents (based on considerations of total burden hours or burden-hours per respondent) and are low-cost for both the respondents and the Federal Government;

• The collections are non-controversial;

• Any collection is targeted to the solicitation of opinions from respondents who have experience with the program or may have experience with the program in the near future;

• Personally identifiable information (PII) is collected only to the extent necessary and the agency will comply with applicable legal and policy requirements to ensure its protection;

• Information gathered is intended to be used for general service improvement and program management purposes;

• The agency will follow the procedures specified in any relevant OMB guidance for the required reporting to OMB of data from surveys;

• Outside of the reporting mentioned in the bullet immediately above, if the agency intends to release journey maps, user personas, reports, or other data-related summaries stemming from this collection, the agency must include appropriate caveats around those summaries, noting that conclusions should not be generalized beyond the sample, considering the sample size and response rates. The agency must submit the data summary itself (e.g., the report) and the caveat language mentioned above to OMB before it releases them outside the agency. OMB will engage in a passback process with the agency.

Method of Collection

The agency will collect this information by electronic means, when possible, as well as by mail, fax, telephone, technical discussions, and in-person interviews. The agency may also utilize observational techniques to collect this information.

Data

Form Number(s): OMB Control No. 3090-0321.

Type of Review: Extension of an existing collection.

B. Annual Reporting Burden

Affected Public: Collections will be targeted to the solicitation of opinions from respondents who have experience with the program or may have experience with the program in the near future. For the purposes of this request, “customers” are individuals, businesses, and organizations that interact with a Federal Government agency or program, either directly or via a Federal contractor. This could include individuals or households; businesses or other for-profit organizations; not-for-profit institutions; State, local or tribal governments; Federal government; and universities.

Estimated Number of Respondents: 1,101,500.

Estimated Time per Response: Varied, dependent upon the data collection method used. The possible response time to complete a questionnaire or survey may be 3 minutes or up to 1.5 hours to participate in an interview.

Estimated Total Annual Burden Hours: 100,800.

C. Public Comments

The agency invites comments on: (a) Whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

William F. Clark,
Director, Office of Government-wide Acquisition Policy, Office of Acquisition Policy, Office of Government-wide Policy.

[FR Doc. 2025-11667 Filed 6-24-25; 8:45 am]

BILLING CODE 6820-34-P